DEPARTMENT OF THE INTERIOR

Bureau of Land Management

[LLNVW01000.L144000000.FR0000.241A; 14110008; TAS: 212; N-97660 MO #4500155658]

Notice of Realty Action: Recreation and Public Purposes Act, Classification for Lease and Subsequent Conveyance of Public Land in Humboldt County, Nevada

AGENCY: Bureau of Land Management, Interior.

ACTION: Notice of realty action.

SUMMARY: Humboldt County has applied for a lease and subsequent conveyance of 5-acres of Federal land on which they propose to construct a rural fire station to serve the outlying communities and residences in the rural areas of Humboldt County, Nevada. The Bureau of Land Management (BLM) has examined the subject public lands and found them suitable for classification, lease, and conveyance under the provisions of the Recreation and Public Purposes (R&PP) Act of June 14, 1926, as amended.

DATES: Interested parties may submit written comments regarding the classification, lease, and subsequent conveyance of public lands on or before June 13, 2022. Comments may be mailed or hand-delivered to the BLM office address below. The BLM will not consider comments received by telephone. In the absence of any adverse comments, the classification will become effective on June 13, 2022.

ADDRESSES: Send written comments to: Attn. Pueblo Station, BLM Humboldt River Field Office, 5100 East Winnemucca Boulevard, Winnemucca, Nevada 89445.

FOR FURTHER INFORMATION CONTACT: Julie McKinnon, Realty Specialist, at the above address, by phone at (775) 623-1734 or by email at jmckinno@blm.gov. Information concerning the proposed R&PP project, including the environmental assessment, are available for review during business hours, 7:30 a.m. to 4:30 p.m. Pacific Standard Time, Monday through Friday, except during Federal holidays, at the BLM Humboldt River Field Office at the address above or online at https://eplanning.blm.gov/eplanning-ui/project/2011153/570.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The decision to issue the lease and subsequently patent the parcel will be processed consistent with BLM regulations at 43 CFR 2741.

The parcel, which was identified as suitable for disposal in the Winnemucca District Resource Management Plan (RMP), is located southwest of Winnemucca in Humboldt County, Nevada on lands described below:

Mount Diablo Meridian, Nevada

T. 43 N., R. 31 E.,

Sec. 10, N½NW¼NW¼NW¼.

The area described contains 5 acres.

The parcel has been identified as a key location for a rural fire station that would serve the outlying residences and rural communities of Humboldt County. A rural fire station would allow the volunteer fire fighters to provide a quicker response to wildland and residential fires in the area. The fire station would be used to store and protect the County's fire suppression equipment, while also keeping the equipment serviceable and ready in the event of a wildland fire. The R&PP project would also include storage for Humboldt County Road maintenance equipment. The County would lease the parcel for construction of the site and would request patent once construction is completed in accordance with the Plan of Development (POD). A reversionary clause would be included in the patent, which would require the land to return to the U.S. if the parcel is used in any way that is inconsistent with an approved POD.

Prior to patenting the land, an Environmental Site Assessment (ESA) will be conducted to determine the level of hazardous materials, if any, present on the property. Upon review of the ESA, if the Authorized Officer determines that any kind of hazardous substances exists on the parcel that makes the parcel unsuitable for return to public domain, the patent will not include a reversionary clause, and the parcel would not return to the U.S.

Upon publication of this notice in the Federal Register, the lands will be segregated from appropriation under any other public land law, including locations under mining laws, except for conveyance under the R&PP Act. The segregated effect shall terminate upon issuance of a patent or termination of the application.

The patent, if issued, will be subject to the following terms, conditions, and reservations:

1. A right-of-way thereon for ditches or canals constructed by the authority of the United States, Act of August 30, 1890 (43 U.S.C. 945).

2. All mineral deposits in the land so patented, and the right to prospect for, mine, and remove such deposits from the same under applicable law and regulations as established by the Secretary of the Interior are reserved to the United States, together with all necessary access and exit rights.

3. An appropriate indemnification clause protecting the United States from claims arising out of the patentee's use, occupancy, or occupation on the leased/patented lands.

4. Any other terms or conditions, or reservations that the authorized officer determines appropriate to ensure public access and proper management of Federal lands and interests therein.

5. A right-of-way to Humboldt County for an access road N-17397, Big Creek Road.

6. A right-of-way to Oregon-Idaho Utilities for a buried fiber optic line, N-60463.

7. Any other valid existing rights.

Classification Comments: Interested persons may submit comments involving the suitability of the land for development and use as a fire station and storage of road maintenance equipment. Comments on the classification are restricted to whether the land is physically suited for the proposal, whether the use will maximize the future use or uses of the land, where the use is consistent with local planning and zoning, or if the use is consistent with state and Federal programs.

Application Comments: Interested persons may submit comments regarding the specific use proposed in the application and POD, whether the BLM followed proper administrative procedures in reaching the decision, or any other factor not directly related to the suitability of the lands for use as a fire station and storage of road maintenance equipment.

A copy of this notice will also be published in the newspaper of local circulation once a week for three consecutive weeks. Any adverse comments will be reviewed by the BLM Nevada State Director or other authorized official of the Department of the Interior, who may sustain, vacate, or modify this realty action.

Before including your address, phone number, email address, or other personal identifying information in any comment, be aware that your entire comment, including your personal identifying information, may be made publicly available at any time. While you can ask in your comment to withhold your personal identifying information from public review, we cannot guarantee that we will be able to do so.

(Authority: 43 CFR 2741.5)

Kathleen Rehberg,
Field Manager, Humboldt River Field Office.

[FR Doc. 2022-09177 Filed 4-28-22; 8:45 am]

BILLING CODE 4310-HC-P